FEDERAL COMMUNICATIONS COMMISSION

[OMB 3060-0812; FR ID 198783]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.” The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before February 26, 2024.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-0812.

Title: Fee Assessment Adjustment, Fee Relief and Fee Exemption.

Form Number: N/A.

Type of Review: Revision of a currently approved collection.

Respondents: Individuals or households, businesses and other for-profit entities, not-for-profit entities, Federal Government and State, local and Tribal government.

Number of Respondents and Responses: 574 respondents; 574 responses.

Estimated Time per Response: 0.25-1.25 hours.

Frequency of Response: On occasion reporting requirements.

Obligation to Respond: Required to obtain or retain benefits. The statutory authority for these fee collections is contained in 47 U.S.C. 154(i), 154(j), 158, 159, 159a and 303.

Total Annual Burden: 244 hours.

Total Annual Cost: No cost.

Needs and Uses: The Commission requires that nonprofit entities seeking a statutory exemption from payment of application or regulatory fees submit documentation, such as an IRS Determination Letter, a state charter indicating nonprofit status, proof of church affiliation indicating tax exempt status or the like, to establish nonprofit status, and if later requested by the Commission, to provide current evidence of exempt status. The Commission allows commercial mobile radio service (CMRS) and broadcast (television and radio) licensees and interstate telecommunications service providers (ITSPs) to submit, prior to the annual regulatory fee payment deadline, updates or corrections to the data the Commission relies upon to assess their annual regulatory fees, to request that their annual regulatory fees be adjusted accordingly. The Commission is permitted by statute to waive, reduce or defer payment of regulatory or application fees upon a showing of good cause and that the relief sought would promote the public interest. Parties seeking waiver, reduction or deferral of their fees submit documentation, such as financial records demonstrating financial hardship, to demonstrate good cause and that the relief sought promotes the public interest.

Federal Communications Commission.
Marlene Dortch,
Secretary, Office of the Secretary.

[FR Doc. 2024-01518 Filed 1-25-24; 8:45 am]

BILLING CODE 6712-01-P